DEPARTMENT OF ENERGY

FEDERAL ENERGY REGULATORY COMMISSION

[Docket No. EC00-120-000, et al.]

South Beloit Water, Gas and Electric Company, et al.; Electric Rate and Corporate Regulation Filings

August 8, 2000.

Take notice that the following filings have been made with the Commission:

1. South Beloit Water, Gas and Electric Company

[Docket No. EC00-120-000]

Take notice that on August 3, 2000, South Beloit Water, Gas and Electric Company filed an application under Section 203 of the Federal Power Act requesting authorization to transfer ownership and operational control of its jurisdictional transmission facilities to American Transmission Company LLC (ATCLLC).

Comment date: September 5, 2000, in accordance with Standard Paragraph E at the end of this notice.

2. Dynegy Midwest Generation, Inc.

[Docket No. EG00-235-000]

Take notice that on August 4, 2000, Dynegy Midwest Generation, Inc., 1000 Louisiana, Suite 5800, Houston, Texas filed with the Federal Energy Regulatory Commission an amendment to its application in the above-referenced docket for determination of exempt wholesale generator status pursuant to Part 365 of the Commission's Regulations.

Comment date: August 29, 2000, in accordance with Standard Paragraph E at the end of this notice. The Commission will limit its consideration of comments to those that concern the adequacy or accuracy of the application.

3. Allegheny Energy Service Corporation, on behalf of Monongahela Power Company, The Potomac Edison Company, and West Penn Power Company

[Docket No. ER94-1378-000]

Take notice that on August 4, 2000, Allegheny Energy Service Corporation on behalf of Monongahela Power Company, The Potomac Edison Company, and West Penn Power Company filed a request to withdraw its filing at Docket No. ER94-1378-000.

Copies of the filing have been provided to the Public Service Commission of Maryland, the Public Utilities Commission of Ohio, the Pennsylvania Public Utility Commission, the Virginia State Corporation Commission, the West Virginia Public Service Commission and all parties of record.

Comment date: August 25, 2000, in accordance with Standard Paragraph E at the end of this notice.

4. California Independent System Operator Corporation

[Docket No. ER00-2019-002]

Take notice that on August 3, 2000, the California Independent System Operator Corporation (ISO), tendered for filing changes to the ISO Tariff to comply with the Commission's order in California Independent System Operator Corporation, 91 FERC ¶ 61,205 (2000). These changes include provision for the following: Commission review of decisions of the Revenue Review Panel; the ability of non-jurisdictional Participating TOs either to file their Transmission Revenue Requirements with the Commission or submit them to the ISO; the West Central TAC Area having the same Transition Date as the other three TAC Areas, unless the ISO provides additional information demonstrating the need for a deferral; and elimination of the “buy down” provision. Additionally, this filing contains tariff sheets submitted in order to reflect the sum of recent amendments to the ISO Tariff; to correct typographical errors and inadvertent omissions; and to embody changes to tariff language which the ISO intended to provide in recent amendments, but which were not reflected in those amendments.

The ISO also tendered for filing an errata concerning the ISO's August 3, 2000 filing in the above-referenced docket. The errata filing provides a tariff sheet which was inadvertently omitted from the August 3, 2000 filing. The ISO states that this filing has been served upon all parties in this proceeding.

The ISO states that this filing has been served upon all parties in this proceeding.

Comment date: August 24, 2000, in accordance with Standard Paragraph E at the end of this notice.

4. South Carolina Electric & Gas Company

[Docket No. ER00-3356-000]

Take notice that on August 3, 2000, South Carolina Electric & Gas Company (SCE&G), tendered for filing a service agreement establishing Cinergy Services, Inc. as a firm point-to-point customer under the terms of SCE&G's Open Access Transmission Tariff.

SCE&G requests an effective date of one day subsequent to the filing of the service agreement. Accordingly, SCE&G requests waiver of the Commission's notice requirements.

Copies of this filing were served upon Cinergy Services, Inc. and the South Carolina Public Service Commission.

Comment date: August 24, 2000, in accordance with Standard Paragraph E at the end of this notice.

5. Northern Indiana Public Service Company

[Docket No. ER00-3357-000]

Take notice that on August 3, 2000, Northern Indiana Public Service Company tendered for filing an executed Standard Transmission Service Agreement for Non-Firm Point-to-Point Transmission Service between Northern Indiana Public Service Company and SkyGen Energy Marketing LLC (SKYM).

Under the Transmission Service Agreement, Northern Indiana Public Service Company will provide Point-to-Point Transmission Service to SKYM pursuant to the Transmission Service Tariff filed by Northern Indiana Public Service Company in Docket No. OA96-47-000 and allowed to become effective by the Commission.

Northern Indiana Public Service Company has requested that the Service Agreement be allowed to become effective as of August 4, 2000.

Copies of this filing have been sent to SkyGen Energy Marketing LLC, the Indiana Utility Regulatory Commission, and the Indiana Office of Utility Consumer Counselor.

Comment date: August 24, 2000, in accordance with Standard Paragraph E at the end of this notice.

6. Energy Alternatives, Inc.

[Docket No. ER00-3358-000]

Take notice that on August 3, 2000, Energy Alternatives, Inc. (EA), petitioned the Commission for acceptance of EA Rate Schedule FERC No. 1; EA the granting of certain blanket approvals, including the authority to sell electricity at market-based rates; and the waiver of certain Commission Regulations.

EA intends to engage in wholesale electric power and energy purchases and sales as a marketer. EA may also engage in other nonjurisdictional activities, such as facilitating the purchase and sale of wholesale energy without taking title to the electricity, selling electricity to retail customers in states in which retail electric power competition has been implemented, and arranging services in related areas such as transmission and fuel supplies. EA is a wholly-owned subsidiary of Midwest Energy Systems, a Minnesota corporation, which is a wholly-owned subsidiary of Dakota Electric Association, a Minnesota cooperative corporation.

Comment date: August 24, 2000, in accordance with Standard Paragraph E at the end of this notice.

7. Northern Indiana Public Service Company

[Docket No. ER00-3359-000]

Take notice that on August 3, 2000, Northern Indiana Public Service Company tendered for filing an executed Standard Transmission Service Agreement for Non-Firm Point-to-Point Transmission Service between Northern Indiana Public Service Company and Cargill-Alliant LLC (CRGL).

Under the Transmission Service Agreement, Northern Indiana Public Service Company will provide Point-to-Point Transmission Service to CRGL pursuant to the Transmission Service Tariff filed by Northern Indiana Public Service Company in Docket No. OA96-47-000 and allowed to become effective by the Commission.

Northern Indiana Public Service Company has requested that the Service Agreement be allowed to become effective as of August 4, 2000.

Copies of this filing have been sent to Cargill-Alliant LLC, the Indiana Utility Regulatory Commission, and the Indiana Office of Utility Consumer Counselor.

Comment date: August 24, 2000, in accordance with Standard Paragraph E at the end of this notice.

8. Northern Indiana Public Service Company

[Docket No. ER00-3360-000]

Take notice that on August 3, 2000, Northern Indiana Public Service Company tendered for filing an executed Standard Transmission Service Agreement for Non-Firm Point-to-Point Transmission Service between Northern Indiana Public Service Company and SkyGen Energy Marketing LLC (SKYM).

Under the Transmission Service Agreement, Northern Indiana Public Service Company will provide Point-to-Point Transmission Service to SKYM pursuant to the Transmission Service Tariff filed by Northern Indiana Public Service Company in Docket No. OA96-47-000 and allowed to become effective by the Commission.

Northern Indiana Public Service Company has requested that the Service Agreement be allowed to become effective as of August 4, 2000.

Copies of this filing have been sent to SkyGen Energy Marketing LLC, the Indiana Utility Regulatory Commission, and the Indiana Office of Utility Consumer Counselor.

Comment date: August 24, 2000, in accordance with Standard Paragraph E at the end of this notice.

9. Consumers Energy Company

[Docket No. ER00-3361-000]

Take notice that on August 4, 2000, Consumers Energy Company (Consumers), tendered for filing executed transmission service agreements with Aquila Energy Marketing Corporation (Customer) pursuant to the Joint Open Access Transmission Service Tariff filed on December 31, 1996 by Consumers and The Detroit Edison Company (Detroit Edison).

The agreements have effective dates of August 1, 2000.

Copies of the filed agreement were served upon the Michigan Public Service Commission, Detroit Edison, and the Customer.

Comment date: August 25, 2000, in accordance with Standard Paragraph E at the end of this notice.

10. Avista Corporation

[Docket No. ER00-3362-000]

Take notice that on August 4, 2000, Avista Corporation (AVA), tendered for filing notice that a Mutual Netting Agreement assigned Rate Schedule FERC No. 257, previously filed with the Federal Energy Regulatory Commission by Avista Corporation, formerly known as The Washington Water Power Company, under the Commission's Docket No. ER99-3-000 with The Montana Power Trading & Marketing Company is to be terminated, effective August 10, 2000 by the request of The Montana Power Trading & Marketing Company, per its letter dated July 31, 2000.

Notice of the cancellation has been served upon The Montana Power Trading & Marketing Company.

Comment date: August 25, 2000, in accordance with Standard Paragraph E at the end of this notice.

11. Louisville Gas and Electric Company/Kentucky Utilities Company

[Docket No. ER00-3363-000]

Take notice that on August 4, 2000, Louisville Gas and Electric Company (LG&E)/Kentucky Utilities (KU) (hereinafter Companies), tendered for filing an executed Delivery Scheduling and Balancing Agreement between the Companies and The Legacy Energy Group, LLC.

Comment date: August 25, 2000, in accordance with Standard Paragraph E at the end of this notice.

12. Ameren Services Company

[Docket No. ER00-3364-000]

Take notice that on August 4, 2000, Ameren Services Company (ASC), tendered for filing Service Agreements for Firm Point-to-Point Transmission Services between ASC and El Paso Merchant Energy, L.P. and Engage Energy US, L.P. (the parties). ASC asserts that the purpose of the Agreements is to permit ASC to provide transmission service to the parties pursuant to Ameren's Open Access Transmission Tariff.

Comment date: August 25, 2000, in accordance with Standard Paragraph E at the end of this notice.

13. Ameren Services Company

[Docket No. ER00-3365-000]

Take notice that on August 4, 2000, Ameren Services Company (ASC), tendered for filing Service Agreements for Non-Firm Point-to-Point Transmission Services between ASC and El Paso Merchant Energy, L.P. and Engage Energy US, L.P. (the parties). ASC asserts that the purpose of the Agreements is to permit ASC to provide transmission service to the parties pursuant to Ameren's Open Access Transmission Tariff.

Comment date: August 25, 2000, in accordance with Standard Paragraph E at the end of this notice.

14. New York State Electric & Gas Corporation

[Docket No. ER00-3366-000]

Take notice that on August 4, 2000, New York State Electric & Gas Corporation (NYSEG), tendered for filing as an initial rate schedule pursuant to Part 35 of the Federal Energy Regulatory Commission's regulations, 18 CFR Part 35, an Interconnection Agreement (IA) with Madison Windpower, LLC (Madison). The IA provides for interconnection service to Madison at the rates, terms, charges, and conditions set forth therein. NYSEG is requesting that the IA become effective as of August 7, 2000.

Copies of this filing have been served upon the New York State Public Service Commission, Madison and the New York Independent System Operator, Inc.

Comment date: August 25, 2000, in accordance with Standard Paragraph E at the end of this notice.

15. Navajo Refining Company, Complainant v. SFPP, L.P., Respondent

[Docket No. OR00-7-000]

Take notice that on August 4, 2000, pursuant to Rule 206 of the Commission's Rules of Practice and Procedure (18 CFR 385.206) and the Procedural Rules Applicable to Oil Pipeline Procedures (18 CFR 343.1(a)), Navajo Refining Company (Navajo) filed a Complaint in this proceeding. Navajo alleges that SFPP, L.P. (SFPP) has violated and continues to violate the Interstate Commerce Act, 49 U.S.C. App. section 1 et seq. by charging unjust and unreasonable rates for the transportation in interstate commerce of petroleum products in its East Line from El Paso, Texas to points in New Mexico and Arizona.

Navajo respectfully requests that the Commission: (1) Examine SFPP's rates and charges for its jurisdictional interstate East Line service and declare that such rates and charges are unjust and unreasonable; (2) order refunds and reparations to Navajo, including appropriate interest thereon, for the applicable refund and reparation periods to the extent the Commission finds that such rates and charges are unlawful; (3) determine just, reasonable, and nondiscriminatory rates for SFPP's jurisdictional interstate East Line service; (4) award Navajo reasonable attorneys' fees and costs; and (5) order such other relief as may be appropriate.

Navajo states that it has served the Complaint on SFPP. Pursuant to Rule 206(f) of the Commission's Rules of Practice and Procedure, answers to this Complaint are due on August 24, 2000.

Comment date: August 24, 2000, in accordance with Standard Paragraph E at the end of this notice. Answers to the complaint shall also be due on or before August 24, 2000.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-20748 Filed 8-15-00; 8:45 am]

BILLING CODE 6717-01-P